DEPARTMENT OF COMMERCE

National Oceanic and Atmospheric Administration

50 CFR Part 300

[I.D. 091603E]

National Marine Fisheries Service, Notice of Intent to Prepare an Environmental Assessment

AGENCY: National Marine Fisheries Service (NMFS), National Oceanic and Atmospheric Administration (NOAA), Commerce.

ACTION: Notice of intent to prepare an environmental assessment (EA); request for written comments; notice of public scoping meetings.

SUMMARY: NMFS announces its intent to prepare an EA and to hold scoping meetings to inform interested parties of the potential impacts on the human environment of the implementation of the regulatory changes resulting from the recently extended Treaty on Fisheries Between the Governments of Certain Pacific Island States and the Government of the United States of America (Treaty). As part of this process, NMFS intends to conduct two scoping meetings to allow stakeholders the opportunity to express their views regarding information that NMFS should consider in preparing the EA for the implementation of the regulatory changes required under the recently re-negotiated Treaty.

DATES: The dates for the public scoping meetings are:

1. October 24, 2003, in San Diego, California.

2. November 13, 2003, in Pago Pago, American Samoa.

ADDRESSES: The scoping meeting locations are:

1. Embassy Suites Hotel, San Diego Bay, 4 p.m. - 10 p.m.

2. Utulei Convention Center, 4 p.m. - 7 p.m.

Written comments on the issues, range of alternatives, impacts that should be discussed in the EA, and requests to be included on a mailing list of persons interested in the EA should be sent to Raymond Clarke, International Affairs Division, Pacific Islands Regional Office, NMFS, 1601 Kapiolani Blvd., Suite 1110, Honolulu, HI 96814. Comments may be sent to the Regional Office via facsimile (fax) at 808-973-2941 and must be received by December 8, 2003.

FOR FURTHER INFORMATION CONTACT: Charles Karnella or Raymond Clarke, telephone (808) 973-2937.

SUPPLEMENTARY INFORMATION:

Background

The Treaty entered into force in 1988. The Treaty is between the 16 members of the Pacific Islands Forum, an inter-governmental body that represents 16 sovereign Pacific Island Countries (PICs), and the United States of America. After an initial 5-year agreement, the Treaty was renewed in 1993 allowing access for up to 50 U.S. purse seiners (with an option for 5 more if agreed to by all parties) to the Exclusive Economic Zones (EEZs) of the following countries: Australia, Cook Islands, Federated States of Micronesia, Fiji, Kiribati, Marshall Islands, New Zealand, Nauru, Niue, Palau, Papua New Guinea, Solomon Islands, Tonga, Tuvalu, Vanuatu, Samoa. The Treaty Area is approximately 10 million square miles in the western and central Pacific Ocean.

The Treaty sets out the terms and conditions associated with certain aspects of U.S. purse seine vessel operations and obtaining access to the PICs= EEZs. Treaty terms and conditions include, but are not limited to, various fees, area closures, reporting, and observer coverage requirements. Additionally, the United States Government has certain Treaty obligations that include, but are not limited to, administrative requirements, economic assistance fees, as well as the collection, compilation, and summarization of fishery related data.

Commencing in 2000, the U.S. and the PICs entered into a series of negotiations that led to an agreement to amend and extend the Treaty for 10 years or until June 14, 2012. The agreement recognizes that all parties involved in the negotiations were required to obtain the consent of their various legislative and/or executive bodies before the Treaty entered into law. The parties agreed to abide by the negotiated terms and conditions of the extension of the Treaty after June 15, 2003 B or when key provisions of the previous Treaty expired. This allowed the U.S. purse seine fleet to continue to operate and allowed the PICs to continue to benefit from the economic assistance associated with the Treaty. As of this writing all the parties have not ratified the re-negotiated Treaty.

Under the current agreement, the U.S. is obligated to pay an annual amount of $21 million. The U.S. Government annually provides $18 million under a technical assistance agreement, and the U.S. purse seine tuna industry, provides the additional $3 million. These funds are paid to the Forum Fisheries Agency (FFA) located in Honiara, Solomon Islands. Under the current (re-negotiated) Treaty, the U.S. is now limited to 40 vessels (and up to 5 additional vessels operating under joint venture agreements with PICs).

The changes to the operational requirements of the Treaty include: recognition of electronic media as an allowed method for meeting reporting requirements and information transmittal by the purse seine vessels, the use of electronic vessel monitoring systems while vessels operate in the Treaty Area, modifications by certain PICs to the areas in which fishing is permitted by U.S. purse seine vessels and correcting an unintended consequence of the drafting of the Treaty that prohibited pelagic longlining by U.S. vessels on the high seas areas (areas outside the 200- mile EEZ of any country) within the Treaty Area.

NEPA Process

The authorization by NMFS to the FFA to provide U.S. purse seine vessels a license to fish in the Treaty Area, which includes access to the EEZs of PICs is a Federal action. Under the National Environmental Policy Act (NEPA), Federal agencies must insure that analysis of the environmental impacts of a range of alternative proposals is available to public officials and citizens before Federal decisions are made and before Federal actions are taken. The purpose is to promote management and policy decisions that will prevent or eliminate damage to the environment, stimulate the health and welfare of the public, and enrich the understanding of the ecological systems and natural resources important to the nation. A key element of the NEPA process is the identification of the proposed action as well as a set of alternatives to the proposed action. The NEPA process, involving public review of the alternatives, is designed to provide the agency with information that enables identification of issues, concerns and reasonable alternatives. The proposed action now under consideration and the subject of this EA is the FFA's authorization of U.S. purse seine vessels to operate in the EEZs of certain PICs under the terms and conditions of the Treaty as amended and extended until June 2012.

NMFS is accepting written comments on the range of actions, alternatives, and impacts it should consider in the EA. These comments will be part of the public record.

Alternatives

At present the range of alternatives to be considered in the EA will probably include, but would not be limited to:

NMFS does not propose a regulation to implement the changes proposed for the Third Extension of the Treaty (No Action Alternative). Under this alternative, the Treaty would continue in the manner it has since June 15, 2003, pursuant to the Memorandum of Understanding (MOU) signed on May 9, 2002. That non-legally binding document represents the political commitment of the signatories to apply the amendments to the Treaty and Annexes that were not in force by June 15, 2003.

NMFS proposes a regulation to implement the changes proposed for the Third Extension of the Treaty. Under this alternative, the U.S. would implement the regulatory changes that have been agreed upon for the third extension of the Treaty. No new legislation would be required for the United States to implement such changes. Regulations would, however, have to be promulgated to require that U.S. tuna purse seine vessels licensed to fish under the Treaty comply with the prescribed vessel monitoring system (VMS) procedures and requirements. This action would implement VMS requirements that are consistent with FFA specifications and be applicable to persons and vessels subject to the Treaty and the jurisdiction of the United States. Operators wishing to fish under the Treaty would be required to install, carry, activate and operate, repair or replace a VMS unit while in the Treaty Area. This alternative also includes modifications to the regulations that would allow U.S. longline vessels to fish on the high seas within the Treaty Area, as well as modifications to the areas of fishing in the EEZs of the Solomon Islands and Papua New Guinea.

NMFS recommends that the U.S. withdraw from the Treaty. In effecting withdrawal, the U.S. would first submit an instrument signifying withdrawal to the depositary, after which it would become effective 1 year later. The decision to withdraw from the Treaty could be taken if the U.S. believed it was no longer in the nation=s best interest to continue participation. There are several scenarios under which such a withdrawal might occur.

The termination of U.S. Purse Seine industry participation in the Treaty. The organization of the Treaty provides the potential that the Treaty could continue without the participation of the U.S. purse seine industry. For instance, the United States Government could continue to provide economic assistance to the PICs called for under the Treaty. This economic assistance is now the only significant source of U.S. economic support to the region (outside payments made to the Compact States of the Republic of the Marshall Islands, the Federated States of Micronesia and the Republic of Palau).

Other alternatives that may be explored may address non-target, associated and dependent species related to purse seine fishing. Comments on these alternatives, as well as issues and concerns are invited.

Additional Information Available

Information on the text of the Treaty, the authorizing legislation or the implementing regulations are available from the NOAA Fisheries Pacific Islands Regional Office.

Special Accommodations

These meetings are accessible to people with disabilities. Requests for sign language interpretation or other auxiliary aids should be directed to Raymond Clarke, telephone 808-973-2937, fax 808-973-2941 at least 5 days before the scheduled meeting date.

Authority: 973-973r. et seq.

Dated: October 3, 2003.
Bruce C. Morehead,
Acting Director, Office of Sustainable Fisheries, National Marine Fisheries Service.

[FR Doc. 03-25640 Filed 10-8-03; 8:45 am]

BILLING CODE 3510-22-S